DEPARTMENT OF THE INTERIOR

National Park Service

Golden Gate National Recreation Area; Notice of Public Meetings for Calendar Year 2004

Notice is hereby given that six public meetings of the Golden Gate National Recreation Area (GGNRA) will be scheduled bimonthly for calendar year 2004 to hear presentations on issues related to management of the Golden Gate National Recreation Area. These public meetings are scheduled for the following dates at San Francisco and at locations yet to be determined in San Mateo County and Marin County, California: Tuesday, March 16—San Francisco, CA; Tuesday, May 18—Marin County, CA location; Tuesday, July 20—San Mateo County, CA location; Tuesday, September 21—San Francisco, CA; Tuesday, November 16—Location To Be Determined.

Some public meetings may be joint meetings with the Presidio Trust. All public meetings will be held at 7 p.m. at GGNRA Park Headquarters, Building 201, Fort Mason, Bay and Franklin Streets, San Francisco, except those on Tuesday. March 16 and Tuesday, May 18, which will be held at 7 p.m. at locations to be announced in San Mateo County and Marin County, California. Information confirming the time and location of all public meetings or cancellations of any meeting can be obtained by calling the Office of Public Affairs at (415) 561-4733 or (415) 561-4730.

Anticipated possible agenda items at public meetings during calendar year 2004 may include:

• Workshops on the Marin Headlands Comprehensive Transportation Mgmt. Plan

• Scoping for Updated General Management Plan

• Updates on Planning Issues for Fort Baker Education and Retreat Center

• Updates on schematic and program design process for Fort Baker Waterfront

• Updates on Crissy Field Marsh Study

• Scoping and Alternatives for Golden Gate's Water Transportation System

• Fort Mason Officer's Club Interim Use

• Reports and updates on the Cliff House Reconstruction Project and other elements of the Sutro District Comprehensive Design Plan, including the Merrie Way Visitor Center design presentation

• Update Report on Big Lagoon Project and other natural resource projects

• Update reports on Seismic Work on the Fort Mason Piers

• Alcatraz construction: update on Laundry Building stabilization and adaptive use

• Update on Marin County plans for Bolinas Lagoon

• Doyle Drive planning update

• Update on Fort Mason Center Long-Term Lease

• Update on Point Reyes National Seashore and GGNRA Northern District General Management Plan Process

• Update on Marin Headlands/Fort Baker Transportation Management Plan (TMP) Alternatives

• Update on Marine Mammal Center Campus Improvement Plans

• Update on Redwood Creek Watershed planning

• Project Status Updates on the Golden Gate Trails Forever Program

• Updates on GGNRA's 5-Year Strategic Plan

• Update reports on Golden Gate Bridge Seismic Upgrade Project and Park Impacts

• Golden Gate Parks Conservancy annual briefing

• Update on park expansion legislation

• Issues affecting San Mateo County national park lands

• Updates on upper Fort Mason planning

• Update on issues concerning areas managed by the Presidio Trust, including Presidio Main Post Design Plan Update

• Scoping for Trails Plan for Park Properties in San Mateo County

• Update on Fire Management Plan

• Update on Site Stewardship Program

• Update on Dog Management Negotiated Rulemaking Process

These meetings will also contain GGNRA Superintendent's Report and when available, a report of the Presidio Trust Director.

Specific final agendas for these meetings will be made available to the public at least 20 days prior to each meeting and can be received by contacting the Office of Public Affairs, Golden Gate National Recreation Area, Building 201, Fort Mason, San Francisco, California 94123 or by calling (415) 561-4733. They are also noticed on the Golden Gate National Recreation Area Web site www.nps.gov/goga under the section “Public Meetings''.

These meetings are open to the public. They will be recorded for documentation and transcribed for dissemination. Sign language interpreters are available by request at least one week prior to a meeting. The TDD phone number for these requests is (415) 556-2766. A verbatim transcript will be available three weeks after each meeting.

Dated: December 15, 2003.
Brian O'Neill,
General Superintendent, Golden Gate National Recreation Area.

[FR Doc. 04-1878 Filed 1-28-04; 8:45 am]

BILLING CODE 4312-FN-P